ENVIRONMENTAL PROTECTION AGENCY

[FRL-8952-9]

Notice of Proposed Settlement Agreement and Opportunity for Public Comment: Coeburn Produce Disposal Site

AGENCY: Environmental Protection Agency (EPA).

ACTION: Notice.

SUMMARY: In accordance with section 122(i) of the Comprehensive Environmental Response, Compensation and Liability Act of 1980, as amended (CERCLA), 42 U.S.C. 9622(h)(1), notice is hereby given of a Proposed Settlement Agreement and Administrative Order, Docket No. CERC-03-2009-0076CR (Proposed Settlement Agreement), that is intended to resolve the potential liability under CERCLA of two parties for response costs incurred by EPA and the United States Department of Justice on behalf of EPA, in connection with the Coeburn Produce Disposal Site, Coeburn, Wise County, Virginia (Site).

DATES: Written comments on the Proposed Settlement Agreement must be received by October 5, 2009.

ADDRESSES. Submit your comments, identified by Docket No. CERC-03-2009-0076-CR, by mail to: Docket Clerk (3RC00), United States Environmental Protection Agency, Region III, 1650 Arch Street, Philadelphia, Pennsylvania 19103-2029.

FOR FURTHER INFORMATION CONTACT: James Van Orden (3RC42), Office of Regional Counsel, U.S. EPA, 1650 Arch Street, Philadelphia, PA 19103-2029, telephone: (215) 814-2693, fax number (215) 814-2603 e-mail address: Vanorden.james@epa.gov.

Maria Goodine (3HS62), U.S. EPA, 1650 Arch Street, Philadelphia, PA 19103-2029, telephone: (215) 814-2488, fax number (215) 814-2603, e-mail address: Goodine.maria@epa.gov.

SUPPLEMENTARY INFORMATION:

I. Additional Information About the Proposed Settlement Agreement

Notice is hereby given of a Proposed Settlement Agreement and Administrative Order, Docket No. CERC-03-2009-0076CR, among the United States Environmental Protection Agency, Fuller Investments, Inc. and the Town of Coeburn, that has been approved, subject to public comment, pursuant to Section 122(h)(1) of CERCLA. The Proposed Settlement Agreement was signed by the Director of the Hazardous Site Cleanup Division, EPA Region III, on August 5, 2009. The Proposed Settlement Agreement provides for recovery of $185,000.00 from Fuller Investments, Inc., which represents approximately 7.11% of the $2,600,864.50 in costs incurred by EPA and the U.S. Department of Justice on behalf of EPA in connection with the Site. The Town of Coeburn will not make any payment, but will be required to impose institutional controls at the Site and to maintain the remedy at the Site.

The Environmental Protection Agency will receive written comments on the Proposed Settlement Agreement for a period of thirty (30) days from the date of publication of this Notice. EPA or the Department of Justice may withdraw or withhold consent to the Proposed Settlement Agreement if the comments disclose facts or considerations that indicate that such consent is inappropriate, improper, inadequate, or inconsistent with the requirements of CERCLA. Unless EPA or the Department of Justice determines, based on any comments which may be submitted, that consent to the Proposed Settlement Agreement should be withdrawn, the terms of the agreement will be affirmed.

II. Additional Information About Commenting on the Proposed Settlement Agreement

A. How Can I Get A Copy of the Proposed Settlement Agreement?

A copy of the Proposed Settlement Agreement can be obtained from the United States Environmental Protection Agency, Region III, Office of Regional Counsel (3RC00), 1650 Arch Street, Philadelphia, Pennsylvania 19103-2029 by contacting James Van Orden, Assistant Regional Counsel, at (215) 814-2693, or via e-mail at Vanorden.James@epa.gov. It is important to note that it is EPA's policy to make public comments, whether submitted electronically or in paper, available to the public, unless the comment contains copyrighted material, CBI, or other information whose disclosure is restricted by statute.

B. How and To Whom Do I Submit Comments?

You may submit comments as provided in the ADDRESSES section. Please ensure that your comments are submitted within the specified comment period. Comments received after the close of the comment period will be marked “late.” EPA is not required to consider these late comments.

If you submit an electronic comment, EPA recommends that you include your name, mailing address, and e-mail address or other contact information in the body of your comment. This ensures that you can be identified as the submitter of the comment and allows EPA to contact you in case EPA cannot read your comment due to technical difficulties or needs further information on the substance of your comment. Any identifying or contact information provided in the body of a comment will be included as part of the comment. If EPA cannot read your comment due to technical difficulties and cannot contact you for clarification, EPA may not be able to consider your comment.

Dated: August 28, 2009.
Paul Leonard,
Acting Director, Hazardous Site Cleanup Division, Region III.

[FR Doc. E9-21397 Filed 9-3-09; 8:45 am]

BILLING CODE 6560-50-P